DEPARTMENT OF HOUSING AND URBAN DEVELOPMENT

[Docket No. FR-7024-N-51]

30-Day Notice of Proposed Information Collection: Public Housing Agency (PHA) 5-Year and Annual Plan; OMB Control No.: 2577-0226

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: January 11, 2021.

ADDRESSES: Interested persons are invited to submit comments regarding this proposal. Written comments and recommendations for the proposed information collection should be sent within 30 days of publication of this notice to www.reginfo.gov/public/do/Start Printed Page 15501PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on October 9, 2018 at 83 FR 50676.

A. Overview of Information Collection

Title of Information Collection: Public Housing Agency (PHA) 5-Year and Annual Plan.

OMB Approval Number: 2577-0226.

Type of Request: Revision of currently approved collection.

Form Number(s): HUD-50075-5Y, HUD-50075-ST, HUD-50075-SM, HUD-50075-HCV, HUD-50075-HP, HUD-50075-MTW, HUD-50077-CR, HUD-50077-SL, HUD-50077-CRT-SM, and HUD-50077-ST-HCV-HP.

Description of the need for the information and proposed use: Under the provisions of Section 3507(a)(1)(D) of the Paperwork Reduction Act of 1995, the Department of Housing and Urban Development (HUD) has submitted to the Office of Management and Budget (OMB) a request to review and approve the information collection listed below. The Public Housing Agency (PHA) Plan was created by section 5A of the United States Housing Act of 1937 (42 U.S.C. 1437c-1). There are two different PHA Plans: The Five-Year Plan and the Annual Plan. The Five-Year Plan describes the agency's mission, long-range goals and objectives for achieving its mission over a five-year period. The Annual PHA Plan is a comprehensive guide to PHA policies, programs, operations, and strategies for meeting local housing needs and goals. This revision integrates the MTW Supplement to the Annual PHA Plan process for PHAs that join MTW under the 2016 Appropriations Act (i.e., MTW Expansion).

The PHA Plans informs HUD, residents, and the public of the PHA's mission for serving the needs of low, very low-income, and extremely low-income families and its strategy for addressing those needs. This information helps provide accountability to the local community for how PHAs spend their funding and implement their policies. Also, PHA Plans allow HUD to monitor the performance of programs and the performance of public housing agencies that administer them.

This proposed information collection was previously published in the Federal Register on October 9, 2018 (FR 83, 50676) and allowed 60-days for public comment. It should be noted that all forms except for the Moving to Work (MTW) Supplement were published in the Federal Register on October 30, 2019 (FR 84, 58167) for a 30-day public comment period. The four public comments received for the documents included in that notice were addressed at that time. The MTW Supplement was not included in this publication due to revisions that were needed as part of ongoing work on the MTW Operations Notice, which has now been published. The purpose of this 30-day notice is to respond to public comments received during the 60-day public comment period on the MTW Supplement and to allow for the 30-day public comment period for the MTW Supplement.

Respondents (i.e. affected public): Local, Regional and State Body Corporate Politic Public Housing Agencies (PHAs) Governments.

Estimated Number of Respondents: 3,780.

Estimated Number of Responses: 4,832 (Annual Plan: 1,152 and 5 Year Plan: 3,780).

Frequency of Response: Every five years for all PHAs, annually for all PHAs except HERA Qualified PHAs.

Average Hours per Response: 6.33 hrs.

Total Estimated Burdens: 14,613.74.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

Authority

Section 3507 of the Paperwork Reduction Act of 1995, 44 U.S.C. Chapter 35.

D. Overview of Significant Changes Made to the HUD-50075-MTW, MTW Supplement to the Annual PHA Plan

The MTW Supplement has been updated to reflect the final MTW Operations Notice, which was published in the Federal Register (FR 85, 53444) on August 28, 2020, and public comments received during the 60-day Federal Register public comment period. A copy of the draft HUD-50075 MTW can be obtained per the information provided earlier in this notice under “For further information”, or on the HUD Moving to Work website at https://www.hud.gov/mtw.

The other forms in the PHA Plan data collection were published in the Federal Register on October 30, 2019 for the 30-day public comment period and, therefore, are not included in this 30-day Federal Register notice.

Colette Pollard,
Department Reports Management Officer, Office of the Chief Information Officer.

[FR Doc. 2020-27276 Filed 12-10-20; 8:45 am]

BILLING CODE 4210-67-P